DEPARTMENT OF DEFENSE

Department of the Navy

Notice of Intent To Prepare an Environmental Impact Statement and To Announce Public Scoping Meetings for the Fallon Range Training Complex Modernization: Expansion of Land Ranges, Airspace Modifications, and Public Land Withdrawal Renewal

AGENCY: Department of the Navy, DoD.

ACTION: Notice.

SUMMARY: Pursuant to Section 102(2)(c) of the National Environmental Policy Act of 1969, as implemented by the Council on Environmental Quality Regulations (40 Code of Federal Regulations parts 1500-1508), the Department of the Navy (DoN) announces its intent to prepare an Environmental Impact Statement (EIS) to assess the potential environmental consequences of maintaining and modernizing the Fallon Range Training Complex (FRTC) in Nevada, which would include land range expansion through additional land withdrawal and land acquisition, airspace modifications, and public land withdrawal renewal. The Navy's action proponent for this proposal is Commander, United States Pacific Fleet (PACFLT). The Bureau of Land Management, the Federal Aviation Administration, and the United States Fish and Wildlife Service will participate as cooperating agencies in the preparation of the EIS.

DATES AND ADDRESSES: See SUPPLEMENTARY INFORMATION section for public scoping meeting dates, times, and addresses.

FOR FURTHER INFORMATION CONTACT: Naval Facilities Engineering Command Southwest; Attention: Amy P. Kelley, Code EV21.AK; 1220 Pacific Highway; Building 1, 5th Floor; San Diego, California 92132.

SUPPLEMENTARY INFORMATION: Since the initial operation of Naval Air Station Fallon in the 1940s and the formal establishment of the FRTC in 1977, the ranges and airspace of the FRTC have been extensively used by the DoN and other Services to conduct air warfare and ground training, including live-fire training activities. The FRTC is the DoN's premier integrated strike warfare training complex, supporting combat elements of PACFLT, United State (U.S.) Fleet Forces Command, U.S. Marine Corps, Naval Special Warfare Command, and others. It is located in the high desert of northern Nevada, 65 miles east of the city of Reno, Nevada, and is comprised of: Special Use Airspace (SUA), including restricted areas, Military Operations Areas (MOAs), and Air Traffic Control Assigned Airspace (ATCAAs); land training ranges; fixed and mobile land targets, and control facilities; threat electronic warfare, early warning radars, and surface-to-air missile systems; and instrumentation facilities.

The current FRTC bombing ranges (B-16, B-17, B-19, and B-20) have not changed substantially in size or configuration since the 1990s. However, warfare technology, to include dynamic improvements to stand-off weapons, platform sensors, threat systems, and strike tactics, and the accuracy of applications that produce and manage safety footprints for air-to-ground weapons training, have continued to evolve. In response to these changes, and to formalize FRTC training requirements, the Naval Aviation Warfighting Development Center (the DoN's primary authority on naval aviation training and tactics development), together with subject matter training experts from the Naval Special Warfare Command, conducted a training capabilities study. This study analyzed the capabilities that should be provided at the FRTC to meet evolving DoN training needs in air warfare, strike warfare, and Naval special warfare. It concluded that training capabilities currently available at the FRTC do not, and will not, meet the real-world training needs identified by Fleet and Unified Commanders. Therefore, to minimize the identified shortcomings and provide the responsive and realistic training capabilities needed to meet evolving aviation and ground training requirements, PACFLT proposes to maintain and modernize the capabilities of the FRTC, including its land ranges, airspace, and infrastructure. The proposed modernization would have the benefit of maintaining and enhancing the safety and security of local and regional populations and infrastructure.

PACFLT's proposed action includes the renewal of the existing 202,859-acre public land withdrawal that expires on November 6, 2021; the withdrawal and reservation for military use of approximately 604,744 acres of additional public land to expand existing land ranges; acquisition of approximately 65,160 acres of non-federal land to expand existing land ranges; expansion of associated SUA, as well as reconfiguration of existing airspace; and modification of range infrastructure to support expansion and modernization. The aviation and ground training to be conducted in the modernized FRTC would be of the same general types and at the same tempos as analyzed by PACFLT in Alternative 2 of the Final EIS for Military Readiness Activities at Fallon Range Training Complex, Nevada (December 2015). Specific details concerning the proposed land expansion and SUA reconfiguration may be found on the project Web site at www.FRTCModernization.com.

The EIS will also assess the potential environmental effects of the no action alternative. Under the no action alternative, there would be no renewal of the existing land withdrawal, which expires on November 6, 2021, and there would be no range expansion, airspace changes, or modification of range infrastructure. As a result, the DoN would reassess the military mission of NAS Fallon and the FRTC.

In addition to the proposed action and the no action alternative, the EIS will also assess the potential environmental effects of other action alternatives. Public comments submitted during the scoping process will inform PACFLT's development of other action alternatives for analysis in the EIS.

Federal agencies, state agencies, local agencies, Native American Tribes and Nations, and interested persons are encouraged to provide comments to PACFLT to identify specific community interests, issues, or topics of environmental concern that PACFLT should consider in the EIS. Resource areas to be addressed in the EIS will include soils; air quality/climate; water quality; airborne noise; biological resources; land use and recreation; socioeconomics, environmental justice, and the protection of children; transportation; cultural resources; Native American traditional resources; and public health and safety.

The public scoping process starts with the publication of this Notice of Intent. Seven open house information sessions are scheduled to receive oral or written comments on issues to be addressed in the EIS:

1. Monday, October 3, 2016, 3:00 p.m. to 7:00 p.m., Fallon Convention Center, 100 Campus Way, Fallon, NV 89406.

2. Tuesday, October 4, 2016, 11:00 a.m. to 1:00 p.m., Pershing County Community Center, 820 6th Street, Lovelock, NV 89419.

3. Tuesday, October 4, 2016, 5:00 p.m. to 7:00 p.m., Evelyn Mount Northeast Community Center, 1301 Valley Road, Reno, NV 89512.

4. Wednesday, October 5, 2016, 5:00 p.m. to 7:00 p.m., Emma Nevada Town Hall, 135 Court Street, Austin, NV 89310.

5. Thursday, October 6, 2016, 5:00 p.m. to 7:00 p.m., Eureka Elementary School Multi-Purpose Room, 431 McCoy Street, Eureka, NV 89316.

6. Friday, October 7, 2016, 11:00 a.m. to 1:00 p.m., Hawthorne Convention Center, 950 E Street, Hawthorne, NV 89415.

7. Friday, October 7, 2016, 5:00 p.m. to 7:00 p.m., Gabbs School Gymnasium, 511 E Avenue, Gabbs, NV 89409.

Each of the seven information sessions will begin with a brief presentation about the project, followed by an open house with information stations staffed by PACFLT and DoN representatives. Additional information concerning each open house, as well as further project information, is available on the EIS Web page: http://www.FRTCModernization.com.

All comments, provided orally or in writing at the scoping meetings, or submitted via the project Web site or the U.S. Postal Service will be taken into consideration during EIS preparation. All comments must be postmarked or received online no later than November 25, 2016. Comments should be mailed to: Naval Facilities Engineering Command Southwest; Attention: Amy P. Kelley, Code EV21.AK; 1220 Pacific Highway; Building 1, 5th Floor; San Diego, California 92132.

Dated: August 18, 2016.
C. Pan,
Lieutenant, Judge Advocate General's Corps, U.S. Navy, Alternate Federal Register Liaison Officer.

[FR Doc. 2016-20502 Filed 8-25-16; 8:45 am]

BILLING CODE 3810-FF-P